DEPARTMENT OF THE INTERIOR

U.S. Geological Survey

[USGS 11 GX11BC009RU0100]

Agency Information Collection Activities: Comment Request for North American Reporting Center for Amphibian Malformations (NARCAM)

AGENCY: U.S. Geological Survey (USGS), Interior.

ACTION: Notice of extension of an existing information collection (1028-0056).

SUMMARY: To comply with the Paperwork Reduction Act of 1995 (PRA), we are notifying the public that we have submitted to the Office of Management and Budget (OMB) an information collection request (ICR) for the extension of the currently approved paperwork requirements for the USGS North American Reporting Center for Amphibian Malformations (NARCAM). This notice provides the public and other Federal agencies an opportunity to comment on the paperwork burden of this information collection request.

DATES: Submit written comments by April 27, 2011.

ADDRESSES: Please submit written comments on this information collection directly to the Office of Management and Budget (OMB) Office of Information and Regulatory Affairs, Attention: Desk Officer for the Department of the Interior via e-mail to OIRA_DOCKET@omb.eop.gov or fax at 202-395-5806; and identify your submission as 1028-0056. Please also submit a copy of your written comments to Phadrea Ponds, USGS Information Collection Clearance Officer, U.S. Geological Survey, 2150-C, Centre Avenue, Fort Collins, CO 80526-8118 (mail); 970-226-9230 (fax); or pondsp@usgs.gov (e-mail). Please reference Information Collection 1028-0056 in the subject line.

FOR FURTHER INFORMATION CONTACT: Lisa Zolly at 703-648-4277 or by mail at U.S. Geological Survey, Biological Informatics Office, 12201 Sunrise Valley Drive, MS 302, Reston, VA 20192. To see a copy of the entire ICR submitted to OMB, go to http://www.reginfo.gov (Information Collection Review, Currently under Review).

SUPPLEMENTARY INFORMATION: Abstract: Beginning in 1997, the U.S. Geological Survey has collected voluntary data regarding amphibian malformations. Sightings are reported via an electronic form. The form is sent to the USGS National Biological Information Infrastructure (NBII) program, which manages the North American Reporting Center for Amphibian Malformations (NARCAM). Each malformation occurrence submitted is carefully reviewed by trained professional herpetologists for quality and accuracy. Data associated with the validated reports, including species, malformation type, and geospatial information, are made accessible to the public via the NARCAM Web site. Information may be used by scientists and resource managers within Federal, State, and local agencies, as well as the general public, to identify areas where malformed amphibians have been reported, and the rates of occurrence. The NARCAM dataset is the only publicly available, national dataset on amphibian malformations.

We will be requesting OMB approval for an extension of the current form used for the NARCAM data collection efforts.

II. Data

OMB Control Number: 1028-0056.

Title: North American Reporting Center for Amphibian Malformations (NARCAM).

Type of Request: Extension of a currently approved collection.

Affected Public: General public, individual households, state/local government agencies.

Respondent Obligation: Voluntary.

Frequency of Collection: On occasion, one-time.

Estimated Number Annual Respondents: 300.

Annual Burden Hours: 150 hours. We estimate the public reporting burden averages 30 minutes per response.

Estimated Reporting and Recordkeeping “Non-Hour Cost” Burden: We have not identified any “non-hour cost” burdens associated with this collection of information.

III. Request for Comments

On December 22, 2010 we published a Federal Register notice (75 FR 80525) announcing that we would submit this ICR to OMB for approval and soliciting comments. The comment period closed on February 22, 2011. We did not receive any comments in response to that notice.

We again invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Please note that the comments submitted in response to this notice are a matter of public record. Before including your address, phone number, e-mail address, or other personal identifying information in your comment, you should be aware that your entire comment, including your personal identifying information, may be made publicly available at anytime. While you can ask OMB in your comment to withhold your personal identifying information from public review, we cannot guarantee that it will be done.

Dated: March 11, 2011.
Kevin T. Gallagher,
Associate Director for Core Science Systems, U.S. Geological Survey.

[FR Doc. 2011-7183 Filed 3-25-11; 8:45 am]

BILLING CODE 4311-AM-P